AFRICAN DEVELOPMENT FOUNDATION

Sunshine Act Meeting

Meeting: African Development Foundation, Board of Directors Meeting.

Time: Tuesday, April 24, 2007, 8:45 a.m. to 1 p.m.

Place: African Development Foundation, Conference Room, 1400 I Street, NW., Suite 1000, Washington, DC 20005.

Date: Tuesday, April 24, 2007.

Status: 1. Open session, April 24, 2007, 8:45 a.m. to 12 p.m.; and,

2. Closed session, April 24, 2007, 12 p.m. to 1 p.m.

Due to security requirements and limited seating, all individuals wishing to attend the open sessions of the meeting must notify Doris Martin, General Counsel, at (202) 673-3916 or mrivard@usadf.gov of your request to attend by 9 a.m. on Wednesday, April 18, 2007.

Rodney J. MacAlister,
President.

[FR Doc. 07-1840 Filed 4-10-07; 3:10 pm]

BILLING CODE 6117-01-P